DEPARTMENT OF JUSTICE

Notice of Lodging of Consent Decree Under the Clean Air Act

Under the Policy set out at 28 CFR 50.7, notice is hereby given that on January 24, 2002, a proposed Consent Decree (Decree) in United States of America v. PSEG Fossil LLC, Civil Action No. 02CV340, was lodged with the United States District Court for the District of New Jersey. This enforcement action under the Clean Air Act involves alleged violations of requirements intended to prevent the significant deterioration of air quality under the Environmental Protection Agency's “New Source Review” Program. The United States and the State of New Jersey sought injunctive relief and civil penalties from PSEG Fossil LLC (“PSEG”), which owns and operates the coal-fired electric generating stations known as Unit 2 of the Hudson Electricity Generating Station in Hudson County, New Jersey; Units 1 and 2 of the Mercer Electricity Generating Station in Mercer County, New Jersey; and Unit 2 of the Bergen Electricity Generating Station in Bergen County, New Jersey. The United States and New Jersey alleged that PSEG failed to comply with the requirements of the Clean Air Act at these facilities by failing to seek permits prior to making major modifications to parts of these facilities and by failing to install appropriate pollution control devices to control emissions of air pollutants—specifically, sulfur dioxide, nitrogen oxides, and particular matter—from these facilities.

The proposed Decree requires PSEG to undertake various activities at the Hudson, Mercer, and Bergen Units in order to reduce the emission of air pollutants, including the following measures: that installation and operation of state-of-the-art equipment to control PSEG's emissions of nitrogen oxides, sulfur dioxide, and particulate matter; the optimization and operation of PSEG's existing pollution control equipment; limitations on the use of certain fuels; and the surrender of certain emission allowances. The Decree also requires PSEG to undertake a series of environmentally beneficial projects, valued at $6 million, and to pay a civil penalty of $1.4 million.

The Department of Justice will receive comments relating to the proposed Consent Decree for a period of thirty (30) days from the date of this publication. Comments should be addressed to the Assistant Attorney General, Environment and Natural Resources Division, Department of Justice, P.O. Box 7611, Washington, DC 20044-7611, and refer to United States v. PSEG Fossil LLC, DOJ Case Number 90-5-2-1-1866/1.

The proposed Consent Decree may be examined at the office of the United States Attorney for the District of New Jersey, 970 Broad Street, Newark, New Jersey 07102, and at the Region 2 office of the Environmental Protection Agency, 290 Broadway, New York, New York 10007. A copy of the proposed Consent Decree may also be obtained by mailing a request to the Consent Decree Library, U.S. Department of Justice, P.O. Box 7611, Washington, DC 20044-7611, or by faxing a request to Tonia Fleetwood, Department of Justice Consent Decree Library, fax no. (202) 616-6584; phone confirmation no. (202) 514-1547. In requesting a copy, please reference United States v. PSEG Fossil LLC, DOJ Case Number 90-5-2-1-1866/1, and enclose a check in the amount of $17.25 (25 cents per page reproduction cost) payable to the U.S. Treasury.

W. Benjamin Fisherow,
Deputy Chief, Environmental Enforcement Section, Environment and Natural Resources Division.

[FR Doc. 02-3803 Filed 2-14-02; 8:45 am]

BILLING CODE 4410-15-M